NUCLEAR REGULATORY COMMISSION

[Docket No. 70-7001, 70-7002]

Notice of Renewal of Certificates of Compliance GDP-1 and GDP-2 for the U.S. Enrichment Corporation, Paducah and Portsmouth Gaseous Diffusion Plants, Paducah, KY and Portsmouth, OH

ACTION: Notice and issuance of a Director's Decision renewing the Certificates of Compliance for the United States Enrichment Corporation (USEC) allowing continued operation of the gaseous diffusion plants (GDPs), at Paducah, KY, and Portsmouth, OH.

FOR FURTHER INFORMATION CONTACT: Michael Raddatz, Enrichment and Conversion Branch, Division of Fuel Cycle Safety and Safeguards, Office of Nuclear Material Safety and Safeguards, U.S. Nuclear Regulatory Commission, Washington, DC 20555-0001. Telephone: (301) 492-3108; Fax: (301) 492-3363; or by e-mail: Michael.Raddatz@nrc.gov.

SUPPLEMENTARY INFORMATION:

I. Introduction

The U.S. Nuclear Regulatory Commission (NRC) is hereby issuing a director's decision authorizing the renewal of the certificates of compliance for the two GDPs located near Paducah, KY, and Portsmouth, OH, for the USEC, allowing continued operation of these plants. The renewal of these certificates for the GDPs covers a 5-year period. USEC submitted individual renewal requests for both the Paducah and Portsmouth GDPs on April 10, 2008, pursuant to Title 10 of the Code of Federal Regulations (10 CFR), Section 76.31.

Pursuant to 10 CFR 76.53, the NRC consulted with and requested written comments on the renewal application from the U.S. Environmental Protection Agency (EPA) and the Department of Energy (DOE). EPA responded in a letter dated September 15, 2008, (ML082840196) stating that it had thoroughly reviewed the USEC application to ensure that USEC had provided an accurate environmental compliance overview. The EPA found that both the local and regional EPA regulators had adequately inspected the facilities and took appropriate action when identifying violations, and supported the recertification of the GDPs. In an e-mail dated September 23, 2008, (ML082840080) DOE reported that its Portsmouth and Paducah Project Office continued to discharge its regulatory and oversight responsibilities at the PGDP and PORTS. DOE conducted its activities in a manner to enhance and improve the environmental health and safety conditions, and achieve compliance with all applicable Federal and State laws and regulations. In those instances where potential violations of these laws and regulations were identified, actions were taken to notify appropriate authorities, identify the cause, and institute corrective measures.

The NRC staff reviewed the certificate renewal applications for the GDPs located near Paducah, KY, and Portsmouth, OH. USEC's applications for certificate renewal, received April 10, 2008, did not propose any changes to the current safety basis or requirements. As required by 10 CFR 76.36, “Annual Renewals,” USEC has incorporated, into the renewal application by reference, previous applications, statements, and reports. The documents that USEC is relying upon as the basis for recertification include the previously approved Technical Safety Requirements, Safety Analysis Report, Compliance Plan, Quality Assurance Program, Emergency Plan, Security and Safeguards Plans, Waste Management Program, and Decommissioning Funding Program, as well as changes made pursuant to 10 CFR 76.68, “Plant Changes.” The staff reviews (as part of recertification) all 10 CFR 76.68 changes submitted during the past 5 years to ensure that the cumulative effect of the changes, when taken as a whole, and in consideration of the changes approved by the NRC staff under 10 CFR 76.45, have not degraded the safety basis for the GDPs.

Based on its review of the certificate renewal applications, the NRC staff has concluded that in combination with existing certificate conditions, USEC provides reasonable assurance of adequate safety, safeguards, and security, and compliance with NRC requirements. The NRC staff prepared compliance evaluation reports (CERs) to provide details of the staff's safety evaluations. These CERs (Portsmouth—ML082820425, Paducah—ML082820197) contain reference to the review performed by headquarters staff, in consultation with the regional inspectors, of the 10 CFR 76.68 changes made since issuance of the 2003 certificates.

Because approvals of the certificate renewal applications are covered by a categorical exclusion (10 CFR 51.22(c)(19)), no environmental impact statement or environmental assessment needs to be prepared for these actions.

As a result of the staff reviews, the NRC finds that USEC has met, and will continue to meet, the 10 CFR 76 certification requirements. Accordingly, the NRC will renew the certificates of compliance for GDP-1 and GDP-2, following submission of the Report to Congress as required by Sec. 1701(b)(1) of the Atomic Energy Act of 1954, as amended (AEA).

II. Opportunity To File a Petition

Under 10 CFR 76.62(c), USEC or any person whose interest may be affected may file a petition requesting the Commission's review of this renewal decision. A petition requesting the Commission's review may not exceed 30 pages and must be filed within 30 days after the publication of this notice in the Federal Register. Within 15 days of filing a petition requesting the Commission's review, pursuant to 10 CFR 76.62(c), any other person whose interest may be affected may file a response, not to exceed 30 pages, to the petition for review. Petitions requesting the Commission's review or responses are to be filed and served in accordance with 10 CFR 2.302(a) and (c), and the other procedures referenced in 10 CFR 76.72(a).

Additionally, any petition must be filed in accordance with the NRC E-Filing rule, promulgated in 72 FR 49139 (Aug. 28, 2007). The E-Filing rule requires participants to submit and serve documents over the internet or in some cases to mail copies on electronic storage media. Participants may not submit paper copies of their filings unless they seek a waiver in accordance with the procedures described below.

To comply with the procedural requirements of E-Filing, at least ten (10) days prior to the filing deadline, the petitioner/requester must contact the Office of the Secretary by e-mail at HEARINGDOCKET@NRC.GOV, or by calling (301) 415-1677, to request (1) a digital ID certificate, which allows the participant (or its counsel or representative) to digitally sign documents and access the E-Submittal server for any proceeding in which it is participating; and/or (2) creation of an electronic docket for the proceeding (even in instances in which the petitioner/requester (or its counsel or representative) already holds an NRC-issued digital ID certificate). Each petitioner/requester will need to download the Workplace Forms Viewer™ to access the Electronic Information Exchange (EIE), a component of the E-Filing system. The Workplace Forms Viewer™ is free and is available at http://www.nrc.gov/site help/e-submittals/install-viewer.html. Information about applying for a digital ID certificate is available on NRC's public Web site at http://www.nrc.gov/site help/e-submittals/apply-certificates.html.

Once a petitioner/requester has obtained a digital ID certificate, had a docket created, and downloaded the EIE viewer, it can then submit a petition. Submissions should be in Portable Document Format (PDF) in accordance with NRC guidance available on the NRC public Web site at http://www.nrc.gov/site-help/e-submittals.html. A filing is considered complete at the time the filer submits its documents through EIE. To be timely, an electronic filing must be submitted to the EIE system no later than 11:59 p.m. Eastern Time on the due date. Upon receipt of a transmission, the E-Filing system time-stamps the document and sends the submitter an e-mail notice confirming receipt of the document. The EIE system also distributes an e-mail notice that provides access to the document to the NRC Office of the General Counsel and any others who have advised the Office of the Secretary that they wish to participate in the proceeding, so that the filer need not serve the documents on those participants separately. Therefore, applicants and other participants (or their counsel or representative) must apply for and receive a digital ID certificate before a petition is filed so that they can obtain access to the document via the E-Filing system.

A person filing electronically may seek assistance through the “Contact Us” link located on the NRC Web site at http://www.nrc.gov/site-help/e-submittals.html or by calling the NRC technical help line, which is available between 8:30 a.m. and 4:15 p.m., Eastern Time, Monday through Friday. The help line number is (800) 397-4209 or locally, (301) 415-4737.

Participants who believe that they have a good cause for not submitting documents electronically must file a motion, in accordance with 10 CFR 2.302(g), with their initial paper filing requesting authorization to continue to submit documents in paper format. Such filings must be submitted by: (1) First class mail addressed to the Office of the Secretary of the Commission, U.S. Nuclear Regulatory Commission, Washington, DC 20555-0001, Attention: Rulemaking and Adjudications Staff; or (2) courier, express mail, or expedited delivery service to the Office of the Secretary, Sixteenth Floor, One White Flint North, 11555 Rockville Pike, Rockville, Maryland, 20852, Attention: Rulemaking and Adjudications Staff. Participants filing a document in this manner are responsible for serving the document on all other participants. Filing is considered complete by first-class mail as of the time of deposit in the mail, or by courier, express mail, or expedited delivery service upon depositing the document with the provider of the service.

Non-timely petitions will not be entertained absent a determination by the Commission that the petition should be granted. To be timely, filings must be submitted no later than 11:59 p.m. Eastern Time on the due date.

Participants are requested not to include social security numbers or copyrighted materials in their filings. The formal requirements for documents contained in 10 CFR 2.304(c)-(e) must be met. If the NRC grants an electronic document exemption in accordance with 10 CFR 2.302(g)(3), then the requirements for paper documents, set forth in 10 CFR 2.304(b) must be met.

III. Further Information

In accordance with 10 CFR 2.390 of the NRC's “Rules of Practice,” details with respect to this action, including the applications for renewal Portsmouth and Paducah GDPs (ML081070220 and ML081070229, respectively) are available electronically for public inspection and copying from the Publicly Available Records (PARS) component of NRC's Agencywide Documents Access and Management System (ADAMS). ADAMS is accessible from the NRC Web site at http://www.nrc.gov/reading-rm/adams.html. These documents (except for classified and proprietary portions which are withheld in accordance with 10 CFR 2.390, “Availability of Public Records”) are also available for public inspection at the Commission's Public Document Room, at One White Flint North, 11555 Rockville Pike, Rockville, MD 20852.

Dated at Rockville, MD, this 10th day of October 2008.
For the Nuclear Regulatory Commission.
Michael F. Weber,
Director, Office of Nuclear Material Safety and Safeguards.

[FR Doc. E8-25151 Filed 10-21-08; 8:45 am]

BILLING CODE 7590-01-P